CORPORATION FOR NATIONAL AND COMMUNITY SERVICE

Information Collection; Submission for OMB Review; Comment Request

AGENCY: Corporation for National and Community Service.

ACTION: Notice.

SUMMARY: The Corporation for National and Community Service (hereinafter the “Corporation”), has submitted a public information collection request (ICR) entitled the Peer Reviewer Application Instructions to the Office of Management and Budget (OMB) for review and approval in accordance with the Paperwork Reduction Act of 1995, Pub. L. 104-13, (44 U.S.C. Chapter 35). Copies of this ICR, with applicable supporting documentation, may be obtained by calling the Corporation for National and Community Service, Ms. Vielka Garibaldi, at (202) 606-6886, (vgaribaldi@cns.gov). Individuals who use a telecommunications device for the deaf (TTY/TDD) may call at (202) 565-2799 between 8:30 a.m. and 5 p.m. Eastern Standard Time, Monday through Friday.

ADDRESSES: Comments may be submitted, identified by the title of the information collection activity, to the Office of information and Regulatory Affairs, Attn: Ms. Katherine Astrich, OMB Desk Office for the Corporation for National and Community Service, by any of the following two methods within 30 days from the date of publication in this Federal Register.

(1) By fax to: (202) 395-6974, Attention: Ms. Katherine Astrich, OMB Desk Officer for the Corporation for National and Community Service; and

(2) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the Corporation's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

Comments

A 60-day public comment Notice was published in the Federal Register on February 1, 2007. This comment period ended on April 2, 2007; no comments were received from this notice.

Description: The Corporation is seeking approval of the Peer Reviewer Application Instructions form which will be used by Grant Review Specialists in the Office of Grant Policy and Operations to select peer reviewers and facilitators for each grant competition. All individuals interested in applying as peer reviewers or facilitators of the peer review panels will be required to complete an electronic application. The current application is due to expire on October 31, 2007. Modifications include instructions related to log-in into eGrants and enhancements to the personal profile, contact information section, and areas of expertise.

Type of Review: Renewal.

Agency: Corporation for National and Community Service.

Title: Peer Reviewer Application.

OMB Number: 3045-0090.

Agency Number: None.

Affected Public: Individuals who are interested in serving as peer reviewers or peer review panel facilitators.

Total Respondents: 2,500.

Frequency: One (1) time and updates as needed.

Average Time per Response: 40 minutes.

Estimated Total Burden Hours: 1,666 hours.

Total Burden Cost (capital/startup): None.

Total Burden Cost (operating/maintenance): None.

Dated: April 17, 2007.
Marlene Zakai,
Director, Office of Grants Policy and Operation.

[FR Doc. E7-8713 Filed 5-7-07; 8:45 am]

BILLING CODE 6050-$$-P